DEPARTMENT OF ENERGY

Federal Energy Regulatory Commission

Combined Notice of Filings #1

Take notice that the Commission received the following electric corporate filings:

Docket Numbers: EC19-42-000.

Applicants: Electric Energy, Inc., GridLiance Heartland LLC.

Description: Response to February 28, 2019 Deficiency Letter, et al. of Electric Energy, Inc. and GridLiance Heartland LLC.

Filed Date: 4/1/19.

Accession Number: 20190401-5677.

Comments Due: 5 p.m. ET 4/22/19.

Take notice that the Commission received the following electric rate filings:

Docket Numbers: ER19-354-001.

Applicants: California Independent System Operator Corporation.

Description: Compliance filing: 2019-04-01 Generator Contingency Rememedial Action Scheme Compliance to be effective 3/1/2019.

Filed Date: 4/1/19.

Accession Number: 20190401-5568.

Comments Due: 5 p.m. ET 4/22/19.

Docket Numbers: ER19-1058-000.

Applicants: Midcontinent Independent System Operator, Inc.

Description: Report Filing: 2019-04-01 Supplement to Revisions to Attachment FF-4 and VV to add Henderson to be effective N/A.

Filed Date: 4/1/19.

Accession Number: 20190401-5474.

Comments Due: 5 p.m. ET 4/22/19.

Docket Numbers: ER19-1100-001.

Applicants: SEPV Mojave West, LLC.

Description: Tariff Amendment: SFA to be effective 2/23/2019.

Filed Date: 4/2/19.

Accession Number: 20190402-5002.

Comments Due: 5 p.m. ET 4/23/19.

Docket Numbers: ER19-1215-001.

Applicants: Cricket Valley Energy Center, LLC.

Description: Tariff Amendment: Amendment to Application for Market-Based Rate Authorization to be effective 5/8/2019.

Filed Date: 4/2/19.

Accession Number: 20190402-5135.

Comments Due: 5 p.m. ET 4/23/19.

Docket Numbers: ER19-1502-000.

Applicants: Southwestern Public Service Company.

Description: § 205(d) Rate Filing: LP&L Transaction Agreement Update—6/1/2019 to be effective 6/1/2019.

Filed Date: 4/1/19.

Accession Number: 20190401-5564.

Comments Due: 5 p.m. ET 4/22/19.

Docket Numbers: ER19-1503-000.

Applicants: Midcontinent Independent System Operator, Inc., Entergy Services, LLC.

Description: § 205(d) Rate Filing: 2019-04-01_Entergy OpCos Attachment O Revisions Regarding ADIT to be effective 6/1/2019.

Filed Date: 4/1/19.

Accession Number: 20190401-5566.

Comments Due: 5 p.m. ET 4/22/19.

Docket Numbers: ER19-1504-000.

Applicants: San Diego Gas & Electric Company, Energia Sierra Juarez U.S., LLC.

Description: Joint Application for Approval of Affiliate Transaction Pursuant to Section 205 of the Federal Power Act of San Diego Gas & Electric Company, et al.

Filed Date: 3/29/19.

Accession Number: 20190329-5533.

Comments Due: 5 p.m. ET 4/19/19.

Docket Numbers: ER19-1505-000.

Applicants: NorthWestern Corporation.

Description: Request for Limited Waiver of Filed Tariff Provision of NorthWestern Corporation.

Filed Date: 4/1/19.

Accession Number: 20190401-5637.

Comments Due: 5 p.m. ET 4/22/19.

Docket Numbers: ER19-1506-000.

Applicants: Minonk Wind, LLC.

Description: Baseline eTariff Filing: Reactive Power Rate Schedule to be effective 6/1/2019.

Filed Date: 4/2/19.

Accession Number: 20190402-5062.

Comments Due: 5 p.m. ET 4/23/19.

Docket Numbers: ER19-1507-000.

Applicants: Duke Energy Florida, LLC, Duke Energy Progress, LLC, Duke Energy Carolinas, LLC.

Description: Compliance filing: Joint OATT LGIP Amendments—Order 845 Compliance Filing to be effective 5/22/2019.

Filed Date: 4/2/19.

Accession Number: 20190402-5064.

Comments Due: 5 p.m. ET 4/23/19.

Docket Numbers: ER19-1508-000.

Applicants: Public Service Company of New Mexico.

Description: Formula Rate Post-employment Benefits Other than Pensions filing of Public Service Company of New Mexico.

Filed Date: 4/1/19.

Accession Number: 20190401-5659.

Comments Due: 5 p.m. ET 4/22/19.

Docket Numbers: ER19-1509-000.

Applicants: Midcontinent Independent System Operator, Inc.

Description: § 205(d) Rate Filing: 2019-04-02_SA 3294 Cooperative Energy—Cooperative Energy GIA (J888) to be effective 3/19/2019.

Filed Date: 4/2/19.

Accession Number: 20190402-5149.

Comments Due: 5 p.m. ET 4/23/19.

Docket Numbers: ER19-1510-000.

Applicants: PJM Interconnection, L.L.C.

Description: Tariff Cancellation: Notice of Cancellation of WMPA/SA No. 4469; Queue No. AA1-106 to be effective 2/2/2019.

Filed Date: 4/2/19.

Accession Number: 20190402-5167.

Comments Due: 5 p.m. ET 4/23/19.

Take notice that the Commission received the following qualifying facility filings:

Docket Numbers: QF19-755-000; QF19-756-000.

Applicants: USPS LA Solar FiT “A”, LLC, USPS LA Solar FiT “B”, LLC.

Description: Refund Report of USPS LA Solar FiT “A”, LLC and USPS LA Solar FiT “B”, LLC, et al.

Filed Date: 4/1/19.

Accession Number: 20190401-5657.

Comments Due: 5 p.m. ET 4/22/19.

Docket Numbers: QF19-1028-000.

Applicants: Rousselot, Inc.

Description: Form 556 of Rousselot, Inc.

Filed Date: 3/29/19.

Accession Number: 20190329-5532.

Comments Due: None-Applicable.

Take notice that the Commission received the following PURPA 210(m)(3) filings:

Docket Numbers: QM19-2-000.

Applicants: Midwest Energy, Inc.

Description: Application of Midwest Energy, Inc. to Terminate Mandatory PURPA Purchase Obligation.

Filed Date: 4/1/19.

Accession Number: 20190401-5669.

Comments Due: 5 p.m. ET 4/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2019.
Nathaniel J. Davis, Sr.,
Deputy Secretary.

[FR Doc. 2019-06934 Filed 4-8-19; 8:45 am]

BILLING CODE 6717-01-P